DEPARTMENT OF THE INTERIOR

Bureau of Land Management

[OR-130-1020-AL; GP8-0124]

Notice of Public Meeting, Eastern Washington Resource Advisory Council Meeting

AGENCY: Bureau of Land Management, U.S. Department of the Interior.

ACTION: Notice of Public Meeting.

SUMMARY: In accordance with the Federal Land Policy and Management Act of 1976 and the Federal Advisory Committee Act of 1972, the U.S. Department of the Interior, Bureau of Land Management (BLM) Eastern Washington Resource Advisory Council will meet as indicated below.

DATES: Wednesday, July 16, 2008 at the Folsom Farm site within the BLM Fishtrap Recreation Area, which is located 30 miles southwest of Spokane, WA, near the town of Sprague, WA.

SUPPLEMENTARY INFORMATION: Target shooting safety will be the primary topic of discussion. The meeting will start at 1 p.m., end at approximately 3 p.m., and be open to the public. There will be a public comment period from 1 p.m. to 1:30 p.m. A map showing the meeting location is available on the internet at http://www.blm.gov/or/districts/spokane.

FOR FURTHER INFORMATION CONTACT: Scott Pavey or Sandie Gourdin, BLM, Spokane District, 1103 N. Fancher Rd., Spokane Valley, WA, 99212, or call (509) 536-1200.

Dated June 13, 2008.
Robert B. Towne,
District Manager.

[FR Doc. E8-13847 Filed 6-18-08; 8:45 am]

BILLING CODE 4310-33-P